DEPARTMENT OF DEFENSE

Office of the Secretary

[Docket ID: DOD-2010-OS-0018]

Privacy Act of 1974; Notice of a Computer Matching Program

AGENCY: Defense Manpower Data Center, DoD.

ACTION: Notice of a computer matching program.

SUMMARY: Subsection (e)(12) of the Privacy Act of 1974, as amended, (5 U.S.C. 552a) requires agencies to publish advance notice of any proposed or revised computer matching program by the matching agency for public comment. The DoD, as the matching agency under the Privacy Act is hereby giving notice to the record subjects of a computer matching program between the Department of Veterans Affairs (VA) and DoD that their records are being matched by computer. The purpose of this agreement is to verify an individual's eligibility for receipt of benefits under programs administered by the Veterans Benefits Administration.

DATES: This proposed action will become effective March 26, 2010 and matching may commence unless changes to the matching program are required due to public comments or by Congressional or by Office of Management and Budget objections. Public comments must be received before March 26, 2010.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: Mr. Samuel P. Jenkins at telephone (703) 607-2943.

SUPPLEMENTARY INFORMATION: Pursuant to subsection (o) of the Privacy Act of 1974, as amended, (5 U.S.C. 552a), the Defense Manpower Data Center (DMDC) and VA have concluded an agreement to conduct a computer matching program between the agencies. The purpose of this agreement is to verify an individual's eligibility for receipt of benefits under programs administered by the Veterans Benefits Administration.

The parties to this agreement have determined that a computer matching program is the most efficient, expeditious, and effective means of obtaining the information needed by the VA to identify individuals that have not separated from military service and/or confirm elements of military service relevant to the adjudication of VA benefits. If this identification is not accomplished by computer matching, but is done manually, the cost would be prohibitive and it is possible that not all individuals would be identified.

A copy of the computer matching agreement between VA and DMDC is available upon request to the public. Requests should be submitted to the Director, Defense Privacy Office, 1901 South Bell Street, Suite 920, Arlington, VA 22202-4512 or to the Department of Veterans Affairs, Veterans Benefit Administration, 810 Vermont Avenue, NW., Washington, DC 20420.

Set forth below is the notice of the establishment of a computer matching program required by paragraph 6.c. of the Office of Management and Budget Guidelines on computer matching published in the Federal Register at 54 FR 25818 on June 19, 1989.

The matching agreement, as required by 5 U.S.C. 552a(r) of the Privacy Act, and an advance copy of this notice was submitted on February 12, 2010, to the House Committee on Government Reform, the Senate Committee on Governmental Affairs, and the Administrator of the Office of Information and Regulatory Affairs, Office of Management and Budget pursuant to paragraph 4d of Appendix I to OMB Circular No. A-130, “Federal Agency Responsibilities for Maintaining Records about Individuals,” February 8, 1996 (February 20, 1996; 61 FR 6427).

Dated: February 18, 2010.
Mitchell S. Bryman,
Alternate OSD Federal Register Liaison Officer, Department of Defense.

Notice of a Computer Matching Program Between the Office of the Inspector General, the Department of Veterans Affairs and the Department of Defense for Verification of Eligibility

A. Participating Agencies: Participants in this computer matching program are the Office of the Inspector General of the Department of Veterans Affairs (VA) and the Defense Manpower Data Center (DMDC) of the Department of Defense (DoD). The VA is the source agency, i.e., the activity disclosing the records for the purpose of the match. The DMDC is the specific recipient activity or matching agency, i.e., the agency that actually performs the computer matching.

B. Purpose of the Match: The purpose of this agreement is to verify an individual's eligibility for receipt of benefits under programs administered by the Veterans Benefits Administration.

VA, as the source agency, will provide DMDC with two electronic files, the C&P and VADS files. The C&P file contains names of veterans, SSNs, and compensation and pension records. The VADS file contains names of veterans, SSNs, and DD214 data. Upon receipt of the electronic files, DMDC will perform a match using the SSNs in the VA C&P file and the VADS file against the DMDC Active Duty Transaction, Reserve Transaction, and Reserve Master files. DMDC will provide VA OIG an electronic listing of VA C&P and VADS records for which there is no matching record from any of the three DMDC files, and an electronic listing of records that contain data that are inconsistent with data contained in the VA C&P or VADS files. VA OIG is responsible for verifying and determining that the data on the DMDC electronic reply file are consistent with the VA source file and for resolving any discrepancies or inconsistencies on an individual basis.

C. Authority for Conducting the Match: The authority for VA to conduct this match is 5 U.S.C. App. 3, the Inspector General Act of 1978 (IG Act). The IG Act authorizes the VA OIG to conduct audits and investigations relating to the programs and operations of VA. IG Act, section 2. In addition, section 4 of the IG Act provides that the IG will conduct activities designed to promote economy and efficiency and to prevent and detect fraud and abuse in VA's programs and operations.

D. Records to be Matched: The systems of records maintained by the respective agencies under the Privacy Act of 1974, as amended, 5 U.S.C. 552a, from which records will be disclosed for the purpose of this computer match are as follows:

VA will use personal data from the following Privacy Act record system for the match: Compensation, Pension, Education, and Vocational Rehabilitation and Employment Records—VA, 58VA21/22/28, published at 74 FR 29275 on June 19, 2009.

DoD will use personal data from the following Privacy Act record system for the match: Defense Manpower Data Center Data Base—DMDC 01, published in the Federal Register at 74 FR 39666 on August 7, 2009.

E. Description of Computer Matching Program: VA, as the source agency, will provide DMDC with two electronic files, the C&P and VADS files. The C&P file contains names of veterans, SSNs, and compensation and pension records. The VADS file contains names of veterans, SSNs, and DD214 data. Upon receipt of the electronic files, DMDC will perform a match using the SSNs in the VA C&P file and the VADS file against the DMDC Active Duty Transaction, Reserve Transaction, and Reserve Master files. DMDC will provide VA OIG an electronic listing of VA C&P and VADS records for which there is no matching record from any of the three DMDC files, and an electronic listing of records that contain data that are inconsistent with data contained in the VA C&P or VADS files. VA OIG is responsible for verifying and determining that the data on the DMDC electronic reply file are consistent with the VA source file and for resolving any discrepancies or inconsistencies on an individual basis.

The VADS file provided by VA contains approximately 308,000 records per year that include data elements showing veteran's name, SSN, VA claim number, Date of Birth, Date of Discharge, and Character of Service.

The C&P file provided by VA contains approximately 3.6 million records per year that includes data elements showing veteran's stub name, SSN, Date of Birth, Date of Discharge, Entitlement Code, File Number, Combined Degree of Disability, Station Number/Regional Office Number, Suspense Segment Indicator, Address Line 1, Branch of Service, Additional Service Indicator, Net Award Amount, and Net Award Date.

The Active Duty Transaction file provided by DMDC contains approximately 2.7 million records per year historically dating from 1971 to the present. This file includes data elements showing service member's name, SSN, Date of Birth, Separation Program Designator, Interservice Separation code, Date of Separation, and Branch of Service.

The Reserve Transaction file provided by DMDC contains approximately 1.5 million records per year historically dating from 1977 to the present. This file includes data elements showing reserve service member's name, SSN, Date of Birth, Separation Program Designator, Interservice Separation code, Date of Separation, and Branch of Service.

The Reserve Master file provided by DMDC contains approximately 1.3 million records per year historically dating from 1977 to the present. This file does not include character of service. However, a match on this file may indicate that the Reserve service member spent time on active duty while a member of the Reserve Forces.

F. Inclusive Dates of the Matching Program: This computer matching program is subject to public comment and review by Congress and the Office of Management and Budget. If the mandatory 30 day period for comment has expired and no comments are received and if no objections are raised by either Congress or the Office of Management and Budget within 40 days of being notified of the proposed match, the computer matching program becomes effective and the respective agencies may begin the exchange at a mutually agreeable time and thereafter on a quarterly basis. By agreement between VA and DMDC, the matching program will be in effect for 18 months with an option to renew for 12 additional months unless one of the parties to the agreement advises the other by written request to terminate or modify the agreement.

G. For Questions, Contact: Director, Defense Privacy Office, 1901 South Bell Street, Suite 920, Arlington, VA 22202-4512. Telephone (703) 607-2943.

[FR Doc. 2010-3664 Filed 2-23-10; 8:45 am]

BILLING CODE 5001-06-P